ENVIRONMENTAL PROTECTION AGENCY

[FRL-8037-6]

Proposed Reissuance of the NPDES General Permit for Oil and Gas Exploration, Development and Production Facilities Located in State and Federal Waters in Cook Inlet (AKG-31-5000)

AGENCY: Environmental Protection Agency (EPA).

ACTION: Notice of proposed NPDES General Permit Reissuance.

SUMMARY: The Regional Administrator of Region 10 today proposes to reissue the National Pollutant Discharge Elimination System (NPDES) General Permit for Oil and Gas Exploration, Development and Production Facilities in State and Federal Waters in Cook Inlet (No. AKG-31-5000). As proposed, the permit would authorize discharges from exploration, development, and production platforms and related facilities that are included in the Coastal and Offshore Subcategory of the Oil and Gas Extraction Point Source Category as authorized by section 402 of the Clean Water Act (CWA or Act), 33 U.S.C. 1342.

DATES: Comments must be received by May 1, 2006.

ADDRESSES: Comments should be sent to: Director, Office of Water and Watersheds, U.S. EPA, Region 10, 1200 Sixth Avenue, M/S OWW-130, Seattle, Washington 98101.

Comments may also be submitted via e-mail to the following address: shaw.hanh@epa.gov.

FOR FURTHER INFORMATION CONTACT: Ms. Hanh Shaw, U.S. EPA, Region 10, 1200 Sixth Avenue, M/S OWW-130, Seattle, Washington 98101. Telephone: (206) 553-0171. A copy of the Proposed Permit, the fact sheet that fully explains the proposal, and a copy of EPA's Environmental Assessment (EA) and preliminary Finding of No Significant Impacts (FONSI), prepared pursuant to the National Environmental Policy Act (NEPA), may be obtained from Ms. Shaw. EPA's current administrative record on the proposal is available for examination at U.S. EPA, 1200 Sixth Avenue, Seattle, WA 98101. Additionally, a copy of the proposed permit, fact sheet, EA, preliminary FONSI, and this Federal Register Notice may be obtained on the Internet at: http://www.epa.gov/r10earth.

The documents are also available from the EPA Alaska Operations Office, Room 537, Federal Building, 222 West 7th Avenue, Anchorage, Alaska 99513. Please contact Ms. Dianne Soderlund at (907) 271-3425 for assistance.

SUPPLEMENTARY INFORMATION: The existing permit, NPDES Permit No. AKG-28-5000 (Existing Permit), was previously reissued on April 1, 1999 and expired on April 1, 2004 (64 FR 19156). The Existing Permit will remain in effect until a new permit is reissued for those discharges which were covered at the time of expiration. The Existing Permit authorizes discharges from oil and gas exploration, development, and production facilities located in and discharging to state and Federal waters in Cook Inlet north of a line extending between Cape Douglas (at 58°51′ latitude, 153°15′ longitude) on the west and Port Chatham (at 59°13′ latitude, 151°47′ longitude) on the east. EPA proposes to replace the Existing Permit with the proposed reissued permit (Proposed Permit), renumbered as AKG-31-5000.

The following changes are proposed to be made as a part of the permit reissuance:

1. EPA proposes to expand the existing coverage area to include the recent Minerals Management Service Lease Sales Nos. 191 and 199 and the State waters adjoining those lease areas.

2. EPA proposes to authorize discharges from oil and gas exploration facilities located within the expanded coverage area, including discharges associated with the use of synthetic-based drilling fluids.

3. EPA proposes to authorize discharges from new oil and gas development and production facilities located within the expanded coverage area, including sanitary waste water, domestic waste water, deck drainage, and miscellaneous discharges such as cooling water and boiler blowdown. These new development and production facilities, however, would not be authorized to discharge produced water, drilling fluids, or drill cuttings under the Proposed Permit.

4. EPA proposes to add new whole effluent toxicity and technology-based limits for discharges that contain treatment chemicals, such as biocides and corrosion inhibitors. These discharges include, but are not limited to, water flood waste water, cooling water, boiler blowdown, and desalination unit waste water.

5. EPA proposes to add a new water quality-based effluent limit for total residual chlorine.

6. EPA proposes to change the monitoring requirements found in the Existing Permit. The proposed changes would result in increased monitoring for facilities that violate the effluent limits, and reduced monitoring for facilities that demonstrate a good compliance record.

7. EPA proposes to expand the Existing Permit's baseline study to include all new facilities.

8. EPA proposes to include a new study that will involve collecting ambient data to determine the effect of large volume produced water discharges on Cook Inlet.

9. EPA proposes to expand the permit's discharge prohibition near protected areas, coastal marshes, and deltas.

10. EPA proposes to change the permit number from AKG-28-5000 to AKG-31-5000.

Regulated entities. The Proposed Permit regulates discharges from oil and gas extraction facilities located in Cook Inlet (e.g., coastal and offshore oil and gas extraction platforms and certain shore-based facilities); however, other types of facilities may also be subject to the conditions and limitations set forth in the Proposed Permit. To determine whether your facility, company, business, organization, etc., may be affected by today's action, you should carefully examine the applicability criteria in Part I of the Proposed Permit. Questions on the permit's application to specific facilities may also be directed to Ms. Shaw at the telephone number or address listed above.

The permit contains conditions and limitations that conform to the Offshore and Coastal Subcategories of the Oil and Gas Extraction Point Source Effluent Limitations Guidelines set forth in 40 CFR part 435, subparts A and D, as well as additional requirements that ensure that regulated discharges will not cause unreasonable degradation of the marine environment, as required by section 403(c) of the Clean Water Act (i.e., the Ocean Discharge Criteria), 33 U.S.C. 1343(c). Specific information on the derivation of those limitations and conditions is contained in the fact sheet.

Other Legal Requirements

National Environmental Policy Act. Because the proposed permit will cover new sources (development and production facilities) in Cook Inlet, the permit is subject to the National Environmental Policy Act (NEPA). Based on the EA and consideration of the proposed NPDES permit conditions, and in accordance with the guidelines for determining the significance of proposed federal actions (40 CFR 1508.27) and EPA criteria for initiating an Environmental Impact Statement (EIS) (40 CFR 6.605), EPA has concluded that the proposed NPDES permit will not result in significant effect on the human environment. The proposed permit will not significantly affect land use patterns or population, wetlands or flood plains, threatened or endangered species, farmlands, ecologically critical areas, historic resources, air quality, water quality, noise levels, and fish and wildlife resources. It will also not conflict with approved local, regional, or state land use plans or policies. The proposed permit also conforms with all applicable Federal statutes and executive orders. As a result of these findings, EPA has determined that an EIS will not be prepared.

Oil Spill Requirements. Section 311 of the Act, 33 U.S.C. 1321, prohibits the discharge of oil and hazardous materials in harmful quantities. Routine discharges specifically controlled by the Proposed Permit are excluded from the provisions of CWA Section 311, 33 U.S.C. 1321. However, the Proposed Permit does not preclude the institution of legal action, or relieve permittees from any responsibilities, liabilities, or penalties for other unauthorized discharges of oil and hazardous materials, which are covered by section 311.

Endangered Species Act. Section 7 of the Endangered Species Act requires Federal agencies to consult with NOAA Fisheries and the U.S. Fish and Wildlife Service (USFWS) if their actions have the potential to either beneficially or adversely affect any threatened or endangered species.

EPA has determined that the Proposed Permit is not likely to adversely affect any threatened or endangered species. During the NEPA process, EPA has initiated consultation with NOAA Fisheries and USFWS in order to meet its obligations under the Endangered Species Act. A Biological Evaluation (BE) was submitted to NOAA Fisheries and USFWS for review on January 23, 2006. The fact sheet and the Proposed Permit will be also submitted to NOAA Fisheries and USFWS for review during the public comment period. EPA will obtain concurrence with its determination from NOAA Fisheries and USFWS prior to issuing the final permit.

Essential Fish Habitat (“EFH”). The Magnuson-Stevens Fishery Conservation and Management Act requires EPA to consult with NOAA Fisheries when a proposed discharge has the potential to adversely affect an EFH. EPA is consulting with NOAA Fisheries to ensure that the discharges authorized by the Proposed Permit are not likely to adversely affect an EFH or associated species. An EFH assessment was sent on January 23, 2006 to NOAA Fisheries for review. EPA will also submit the fact sheet and the Proposed Permit to NOAA Fisheries for review during the public comment period.

Coastal Zone Management Act (“CZMA”). Pursuant to 40 CFR 122.49(d), requirements of the State coastal zone management program must be satisfied before the permit is issued. EPA has determined that the activities authorized by the Proposed Permit are consistent with the Coastal Zone Management Plan. EPA will seek concurrence with this determination from the Alaska Department of Natural Resources (ADNR) prior to issuing the final Proposed Permit.

Maritime Protection, Research, and Sanctuaries Act (“MPRSA”). No marine sanctuaries, as designated by the MPRSA, exist in the vicinity of the Proposed Permit coverage area. However, since state waters are involved in the Proposed Permit coverage area, the provisions of section 401 of the Act, 33 U.S.C. 1341, apply. In accordance with 40 CFR 124.10(c)(1), public notice of the Proposed Permit has been provided to the State agencies that have jurisdiction over fish, shellfish, and wildlife resources.

Annex V of MARPOL (73/78 and 33 CFR 155.73). Under Annex V of MARPOL, the U.S. Coast Guard (USCG) has issued interim final regulations under 33 CFR 151.73 to control the disposal of garbage and domestic wastes from fixed or floating platforms. These regulations include those platforms involved in the exploration, development, and production exploitation of oil and gas resources, such as oil drilling rigs and production platforms. These regulations also apply to all oil platforms when these platforms are located in navigable waters of the U.S. or within the 200 mile Exclusive Economic Zone. The Proposed Permit prohibits the discharge of garbage (as defined at 33 CFR part 151) within 12 miles of the nearest land. The term garbage, as it is applied here, includes operational and maintenance wastes. Beyond 12 miles, the discharge of food wastes that are ground so as to pass through a 25 millimeter mesh screen, incinerator ash, and non-plastic clinkers will be permitted.

State Certification. Section 401 of the Act, 33 U.S.C. 1341, requires EPA to seek a certification from the State that the conditions of the Proposed Permit are stringent enough to comply with State water quality standards. EPA obtained a draft certification from the Alaska Department of Environmental Conservation on November 2, 2005, which was revised on February 17, 2006. EPA intends to seek a final certification from the State of Alaska prior to issuing the final permit. When the State issues certification, the State may impose more stringent conditions than are currently included in the Proposed Permit to ensure compliance with State water quality standards.

Executive Order 12291. The Office of Management and Budget (OMB) exempts this action from the review requirements of Executive Order 12291 pursuant to section 8(b) of that Order. Guidance on Executive Order 12866 contains the same exemptions on OMB review as existed under Executive Order 12291. EPA, however, has prepared a regulatory impact analysis in connection with its promulgation of guidelines on which a number of the Proposed Permit's provisions are based and has submitted it to OMB for review (see 58 FR 12494).

Paperwork Reduction Act. EPA has reviewed the requirements imposed on regulated facilities in the proposed general permit under the Paperwork Reduction Act of 1980, 44 U.S.C. 3501 et seq. OMB has already approved most of the Proposed Permit's information collection requirements in submissions made for the NPDES permit program under the provisions of the CWA. This information has been assigned OMB control number: No. 2040-0086 for NPDES permit applications and No. 2040-0004 for the discharge monitoring report form.

Regulatory Flexibility Act. After review of the facts presented in the notice of intent printed above, EPA certifies, pursuant to the provisions of 5 U.S.C. 605(b), that this Proposed Permit will not have a significant impact on a substantial number of small entities. This certification is based on the fact that the regulated parties have greater than 500 employees and are not classified as small businesses under the Small Business Administration regulations established at 49 FR 5023 et seq. (February 9, 1984). These facilities are classified as Major Group 13-Oil and Gas Extraction SIC 1311 Crude Petroleum and Natural Gas.

Dated: February 17, 2006.
Paula vanHaagen,
Acting Director, Office of Water and Watersheds.

[FR Doc. E6-2800 Filed 2-27-06; 8:45 am]

BILLING CODE 6560-50-P